ENVIRONMENTAL PROTECTION AGENCY

[ER-FRL-9005-3]

Environmental Impacts Statements; Notice of Availability

Responsible Agency: Office of Federal Activities, General Information (202) 564-7146 or http://www.epa.gov/compliance/nepa/. Weekly receipt of Environmental Impact Statements Filed 09/17/2012 Through 09/21/2012 Pursuant to 40 CFR 1506.9.

Notice

Section 309(a) of the Clean Air Act requires that EPA make public its comments on EISs issued by other Federal agencies. EPA's comment letters on EISs are available at: http://www.epa.gov/compliance/nepa/eisdata.html.

SUPPLEMENTARY INFORMATION: Starting October 1, 2012, EPA will not accept paper copies or CDs of EISs for filing purposes; all submissions on or after October 1, 2012 must be made through e-NEPA. While this system eliminates the need to submit paper or CD copies to EPA to meet filing requirements, electronic submission does not change requirements for distribution of EISs for public review and comment. To begin using e-NEPA, you must first register with EPA's electronic reporting site— https://cdx.epa.gov/epa_home.asp.

EIS No. 20120305, Final EIS, USFS, OR, Ogden Vegetation Management Project and Forest Plan Amendment, Proposes to Conduct Vegetation and Fuel Management Activities that will Protect, Maintain, and/or Enhance the Forests Natural Resources and Recreational Opportunities, Bend/Ft. Rock Ranger District, Deschutes National Forest, Deschutes County, OR, Review Period Ends: 10/29/2012, Contact: Beth Peer 541-383-4769.

EIS No. 20120306, Final EIS, USFS, WI, Park Falls Hardwoods Vegetation and Transportation Management Activities, Implementation, Chequamegon-Nicolet National Forest, Medford-Park Falls Ranger District, Price County, WI, Review Period Ends: 10/29/2012, Contact: Jane Darnell 715-748-4875, ext. 38.

EIS No. 20120307, Draft EIS, USFS, AZ, Rim Lakes Forest Restoration Project, Amendment to the Apache-Sitgreaves National Forests Land and Resource Management Plan, Coconino County, AZ, Comment Period Ends: 11/13/2012, Contact: Sandy Hurlocker 505-753-7331.

EIS No. 20120308, Draft EIS (Tiering), NASA, AK, Sounding Rocket Program (SRP) at Poker Flat Research Range (PFRR), Continuing Sounding Rocket Launches, Alaska, Comment Period Ends: 11/26/2012, Contact: Joshua Bundick 757-824-2319.

Amended Notices

EIS No. 20100234, Final EIS, USAF, 00, ADOPTION—Shaw Air Base Airspace Training Initiative (ATI) of Bulldog Military Operating Areas, 20th Fighter Wing Proposal to Modify the Training Airspace Overlying Parts, South Carolina and Georgia, Review Period Ends: 07/26/2010, Contact: Linda Devine 757-764-9434 ADOPTION—The U.S. Department of Transportation's Federal Aviation Administration adopted partial of the U.S. Air Force's Final EIS filed with EPA. The FAA was a cooperating Agency with the USAF's EIS therefore, no distribution was needed for this adoption and there is no comment period.

Dated: September 25, 2012.
Cliff Rader,
Director, NEPA Compliance Division, Office of Federal Activities.

[FR Doc. 2012-23928 Filed 9-27-12; 8:45 am]

BILLING CODE 6560-50-P